DEPARTMENT OF HOUSING AND URBAN DEVELOPMENT

[Docket No. FR-4975-N-12]

Notice of Proposed Information Collection: Comment Request; Multifamily Financial Management Template

AGENCY: Office of the Assistant Secretary for Housing—Federal Housing Commission, HUD.

ACTION: Notice.

SUMMARY: The proposed information collection requirement described below will be submitted to the Office of Management and Budget (OMB) for review, as required by the Paperwork Reduction Act. The Department is soliciting public comments on the subject proposal.

DATES: Comments Due Date: July 15, 2005.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410 or Wayne_Eddins@hud.gov.

FOR FURTHER INFORMATION CONTACT: Kimberly Munson, Office of Asset Management, department of Housing and Urban Development, 451 7th Street, SW., Washington, DC 20410-5000, telephone (202) 708-3730 (this is not a toll free number) for copies of the proposed forms and other available documents.

SUPPLEMENTARY INFORMATION: The Department will submit the proposed information collection to OMB for review, as required by the Paperwork Reduction Act of 1995 (44 U.S.C. chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enchance the quality, utility, and clarity of the information to be collected; and (4) minimize the burden of the collection of information on those who are to respond, including through the use of appropriate automated collection techniques or other forms of information technology; e.g., permitting electronic submission of responses.

This notice also lists the following information:

Title of proposal: Multifamily Financial Management Template.

OMB control number: 2502-0551.

Description of the need for the information and proposed use: The Uniform Financial Reporting Standards (UFRS) for HUD housing programs requires multifamily housing program participants to submit financial data electronically, using generally accepted accounting principles, in a prescribed format. HUD will continue to use the financial information collected from multifamily property owners to evaluate their financial condition. Requiring multifamily property owners to report electronically has enabled HUD to provide a more comprehensive financial assessment of the multifamily property owners receiving Federal funds.

Agency form number, if applicable: None.

Members of affected public: Multifamily property owners.

Estimation of the total number of hours needed to prepare the information collection including number of respondents: The estimated total number of annual hours needed to prepare the information collection is 55,677; the number of respondents is 21,505, generating 21,505 annual responses; the frequency of response is annually; and the number of hours per response varies from 1.75 to 3.00 hours.

Status of the proposed information collection: Extension of currently approved collection.

Authority: Section 3506 of the Paperwork Reduction Act of 1995, 44 U.S.C., Chapter 35, as amended.

Dated: May 6, 2005.
Frank L. Davis,
General Deputy Assistant Secretary for Housing-Deputy Federal Housing Commissioner.

[FR Doc. 05-9635 Filed 5-13-05; 8:45 am]

BILLING CODE 4210-27-M